DEPARTMENT OF ENERGY

Federal Energy Regulatory Commission

Notice of Commissioners and Staff Attendance at FERC/NARUC Collaborative on Smart Response Meeting

November 12, 2010.

The Federal Energy Regulatory Commission (FERC or Commission) hereby gives notice that members of the Commission and/or Commission staff may attend the following meeting: FERC/NARUC Collaborative on Smart Response: Omni Hotel at CNN Center, 100 CNN Center, Atlanta, GA 30303. November 14, 2010 (8:15 a.m.-12:30 p.m.).

Further information may be found at http://annual.narucmeetings.org/Program.cfm.

Kimberly D. Bose,
Secretary.

[FR Doc. 2010-29305 Filed 11-19-10; 8:45 am]

BILLING CODE 6717-01-P